DEPARTMENT OF AGRICULTURE

Forest Service

El Dorado County Resource Advisory COMMITTEE

AGENCY: Forest Service, USDA.

ACTION: Notice of meeting.

SUMMARY: The El Dorado County Resource Advisory Committee will meet in Placerville, California. The committee is authorized under the Secure Rural Schools and Community Self-Determination Act (Pub. L. 112-141) (the Act) and operates in compliance with the Federal Advisory Committee Act. The purpose of the committee is to improve collaborative relationships and to provide advice and recommendations to the Forest Service concerning projects and funding consistent with the title II of the Act. The meetings are open to the public. The purpose of the meetings is to review and recommend projects authorized under title II of the Act.

DATES: The meetings will be held September 10, 17, 24, 2012, 6 p.m.

ADDRESSES: The meetings will be held in the Community Room at Folsom Lake College, El Dorado Center, 6699 Campus Drive Placerville, CA 95667. Written comments may be submitted as described under Supplementary Information. All comments, including names and addresses when provided, are placed in the record and are available for public inspection and copying. The public may inspect comments received at 100 Forni Road, Placerville, CA 95667. Please call ahead to 530-621-5268 to facilitate entry into the building to view comments.

FOR FURTHER INFORMATION CONTACT: Frank Mosbacher, Public Affairs Officer, 530-621-5268, fmosbacher@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The following business will be conducted: project proposals will be reviewed and recommended for approval. Agendas may be viewed at: https://fsplaces.fs.fed.us/fsfiles/unwo/secure_rural_schools.nsf/Web_Agendas?OpenView&Count=1000&RestrictToCategory=E1+Dorado+County. Anyone who would like to bring related matters to the attention of the committee may file written statements with the committee staff before or after the meeting. The agenda will include time for people to make oral statements of three minutes or less. Individuals wishing to make an oral statement should request in writing by August 27 for the September 10 meeting, September 3 for the September 17 meeting, and September 19 for the September 24 meeting to be scheduled on the agenda. Written comments and requests for time for oral comments must be sent to Frank Mosbacher; 100 Forni Road, Placerville, CA 95667, or by email to fmosbacher@fs.fed.us or via facsimile to 530-621-5297. A summary of the meeting will be posted at https://fsplaces.fs.fed.us/fsfiles/unit/wo/secure_rural_schools.nsf/Web_Agendas?OpenView&Count=1000&RestrictToCategory=E1+Dorado+County within 21 days of the meeting.

Meeting Accommodations: If you are a person requiring resonable accomodation, please make requests in advance for sign language interpreting, assistive listening devices or other reasonable accomodation for access to the facility or procedings by contacting the person listed under For Further Information Contact. All reasonable accommodation requests are managed on a case by case basis.

Dated: August 6, 2012.
Kathryn D. Hardy,
Forest Supervisor.

[FR Doc. 2012-19838 Filed 8-16-12; 8:45 am]

BILLING CODE 3410-11-M